DEPARTMENT OF COMMERCE

International Trade Administration

Pennsylvania State University; Notice of Decision on Application for Duty-Free Entry of Scientific Instrument

This decision is made pursuant to section 6(c) of the Educational, Scientific, and Cultural Materials Importation Act of 1996 (Pub. L. 89-651, 80 Stat. 897; 15 CFR part 301). Related records can be viewed between 8:30 a.m. and 5 p.m. in Room 4211, U.S. Department of Commerce, 14th and Constitution Avenue, NW., Washington, DC.

Docket Number: 01-005. Applicant: Pennsylvania State University, University Park, PA 16802-6300. Instrument: Dilution Refrigerator and Superconducting Magnet System, Models 126-250 TOF and 6T-76-H3. Manufacturer: Leiden Cryogenics B.V., The Netherlands. Intended Use: See notice at 66 FR 10483, February 15, 2001.

Comments: None received. Decision: Approved. No instrument of equivalent scientific value to the foreign instrument, for such purposes as it is intended to be used, is being manufactured in the United States. Reasons: The foreign instrument provides capability for measurements in a magnetic field up to 6.0 tesla at temperatures down to 0.015° K with field uniformity to 0.15% in a 1.0 cm³ central region. A domestic manufacturer of similar equipment advised March 14, 2001 that (1) this capability is pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 01-8822 Filed 4-9-01; 8:45 am]

BILLING CODE 3510-DS-M